FEDERAL COMMUNICATIONS COMMISSION

47 CFR Chapter I

[DA 08-157]

Possible Revision or Elimination of Rules

AGENCY: Federal Communications Commission.

ACTION: Review of regulations; comments requested.

SUMMARY: This document invites members of the public to comment on the Federal Communication Commission's (FCC's or Commission's) rules to be reviewed pursuant to section 610 of the Regulatory Flexibility Act of 1980, as amended (RFA). The purpose of the review is to determine whether Commission rules whose ten-year anniversary dates are in the year 2007, as contained in the Appendix, should be continued without change, amended, or rescinded in order to minimize any significant impact the rules may have on a substantial number of small entities. Upon receipt of comments from the public, the Commission will evaluate those comments and consider whether action should be taken to rescind or amend the relevant rule(s).

DATES: Comments may be filed on or before March 2, 2009.

FOR FURTHER INFORMATION CONTACT: Office of Communications Business Opportunities (OCBO), Federal Communications Commission, (202) 418-0990. People with disabilities may contact the FCC to request reasonable accommodations (accessible format documents, sign language interpreters, CART, etc.) by e-mail: FCC504@fcc.gov or phone: 202-418-0530 or TTY: 202-418-0432.

ADDRESSES: Federal Communications Commission, Office of the Secretary, 445 12th Street, SW., Washington, DC 20554.

SUPPLEMENTARY INFORMATION: Each year the Commission will publish a list of ten-year-old rules for review and comment by interested parties pursuant to the requirements of section 610 of the RFA.

Public Notice

FCC Seeks Comment Regarding Possible Revision or Elimination of Rules Under the Regulatory Flexibility Act, 5 U.S.C. 610 CB Docket No. 08-21

Released: December 18, 2008.

1. Pursuant to the RFA, see 5 U.S.C. section 610, the FCC hereby publishes a plan for the review of rules adopted by the agency in calendar year 1997 which have, or might have, a significant economic impact on a substantial number of small entities. The purpose of the review is to determine whether such rules should be continued without change, or should be amended or rescinded, consistent with the stated objectives of section 610 of the RFA, to minimize any significant economic impact of such rules upon a substantial number of small entities.

2. This document lists the FCC regulations to be reviewed during the next twelve months. In succeeding years, as here, the Commission will publish a list for the review of regulations promulgated ten years preceding the year of review.

3. In reviewing each rule under this plan to minimize the possible significant economic impact on a substantial number of small entities, consistent with the requirements of section 610, the FCC will consider the following factors:

(a) The continued need for the rule;

(b) The nature of complaints or comments received concerning the rule from the public;

(c) The complexity of the rule;

(d) The extent to which the rule overlaps, duplicates, or conflicts with other Federal rules and, to the extent feasible, with State and local governmental rules; and

(e) The length of time since the rule has been evaluated or the degree to which technology, economic conditions, or other factors have changed in the area affected by the rule.

4. Appropriate information has been provided for each rule, including a brief description of the rule and the need for and legal basis of the rule. The public is invited to comment on the rules chosen for review by the FCC according to the requirements of section 610 of the RFA. All relevant and timely comments will be considered by the FCC before final action is taken in this proceeding.

Comments may be filed using the Commission's Electronic Comment Filing System (“ECFS”) or by filing paper copies. Comments filed through the ECFS may be sent as an electronic file via the Internet to http://www.fcc.gov/cgb/ecfs/. Generally, only one copy of an electronic submission must be filed. In completing the transmittal screen, commenters should include their full name, U.S. Postal Service mailing address, and the applicable docket or rulemaking number.

Parties may also submit an electronic comment by Internet e-mail. To obtain filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission.

Comments in this proceeding will be available for public inspection and copying during regular business hours at the FCC Reference Information Center, Portals II, 445 12th Street, SW., Room CY-A257, Washington, DC 20554. They may also be purchased from the Commission's duplicating contractor, Best Copy and Printing, Inc., 445 12th Street, SW., Room CY-B402, Washington, DC, 20554, telephone 202-488-5300 or 800-378-3160, facsimile 202-488-5563, or via e-mail at fcc@bcniweb.com. To request materials in accessible formats for people with disabilities (Braille, large print, electronic files, audio format), send an email to fcc504@fcc.gov or call the Consumer & Governmental Affairs Bureau at 202-418-0530 (voice), 202-418-0432 (TTY).

For additional information on the requirements of the RFA visit http://www.fcc.gov/ocbo.

Federal Communications Commission.
Carolyn Fleming Williams,
Director, Office of Communications Business Opportunities.

Appendix

List of rules for review pursuant to the Regulatory Flexibility Act of 1980, 5 U.S.C. 610, for the year 1997. All listed rules are in Title 47 of the Code of Federal Regulations.

PART 1—PRACTICE AND PROCEDURE

Subpart A—General Rules of Practice and Procedure

Brief Description: Section 1.80 of the Commission's rules sets forth who may be subject to a forfeiture penalty for violation of the provisions of the Communications Act of 1934, as amended, or of any rule, regulation or order issued by the Commission, the limits on the amount of the forfeitures that may be assessed, guidelines for determining the amount of such forfeitures, and the procedures for imposing such forfeitures.

Need: The note to section 1.80(b)(4) incorporates the Commission's policy statement regarding forfeitures and a suggested schedule of base forfeiture amounts. This rule section provides a measure of predictability and uniformity to the process of assessing forfeitures, while still preserving the Commission's discretion to depart from the guidelines where warranted by the facts of a particular case. Section 1.80(b)(5) implements inflation adjustments, pursuant to the Debt Collection Improvement Act of 1996 (“DCIA”), Public Law 104-134 (110 Stat. 1321-358), which amends the Federal Civil Monetary Penalty Inflation Adjustment Act of 1990, Public Law 101-410 (104 Stat. 890; 28 U.S.C. 2461 note), to monetary forfeiture penalties that may be assessed by the Commission. The DCIA requires that the statutory maximum forfeiture penalties assessed by the Commission be adjusted for inflation at least once every four years using the method specified in the statute.

Legal Basis: 47 U.S.C. 154(i), 303(r); Debt Collection Improvement Act of 1996, Pub. Law 104-134, 110 Stat. 1321-358.

Section Number and Title:

1.80(b)(4) Note to Paragraph (b)(4) Forfeiture proceedings, Factors considered in determining the amount of the forfeiture penalty.

1.80(b)(5) Forfeiture proceedings, Inflation adjustments to the maximum forfeiture amount.

Subpart E—Complaints, Applications, Tariffs, and Reports Involving Common Carriers

Brief Description: The rules in part 1, subpart E, prescribe the procedures, format, and content of complaints, applications, tariffs, and reports involving common carriers. Section 1.773 sets forth the procedures for filing petitions and replies to petitions seeking investigation, suspension, or rejection of new tariff filings.

Need: Section 1.773 revised the filing periods within which to file petitions to investigate, suspend or reject LEC tariff transmittals filed on 7-days' notice. Section 1.773 provides the public with deadlines by which to participate in the tariff process, specifically, the means by which to challenge LEC's new tariff filings.

Legal Basis: 15 U.S.C. 79 et seq.; 47 U.S.C. 151, 154(i), 154(j), 155, 157, 225, 303(r), and 309.

Section Number and Title:

1.773(a)(2)(i) Petition—When filed.

1.773(b)(1)(i) Reply—When filed.

Brief Description: These rules specify how to file petitions seeking investigation, suspension, or rejection of a new or revised tariff filing.

Need: These rules advise petitioners how to file a petition seeking investigation, suspension, or rejection of a tariff, explain how to calculate filing dates, and provide the number of copies needed and where the copies must be served.

Legal Basis: 47 U.S.C. 203.

Section Number and Title:

1.773 Petitions for suspension or rejection of new tariff filings.

Subpart G—Schedule of Statutory Charges and Procedures for Payment

Brief Description: These rules provide the schedule of charges for applications for media services.

Need: These rules identify the application fees charged by the Commission for applications and other filings for media services.

Legal Basis: 47 U.S.C. 158(b).

Section Number and Title:

1.1104 Schedule of charges for applications and other filings for media services.

Brief Description: These rules provide the schedule of annual regulatory fees and filings for various services.

Need: These rules identify the annual regulatory fees and filing locations for various services.

Legal Basis: 47 U.S.C. 159.

Section Number and Title:

1.1152 Schedule of annual regulatory fees and filing locations for wireless radio services.

1.1153 Schedule of annual regulatory fees and filing locations for mass media services.

1.1154 Schedule of annual regulatory charges and filing locations for common carrier services.

1.1155 Schedule of annual regulatory fees and filing locations for cable television services.

1.1156 Schedule of annual regulatory fees and filing locations for international services.

1.1157 Payment of charges for regulatory fees.

1.1159 Filing locations and receipts for regulatory fees.

1.1162 General exemptions from regulatory fees.

Subpart I—Procedures Implementing the National Environmental Policy Act of 1969

Brief Description: These rules apply to all Commission actions that may impact the quality of the human environment.

Need: These rules implement subchapter I of the National Environmental Policy Act of 1969.

Legal Basis: 42 U.S.C. 4321-4335.

Section Number and Title:

1.1307 Actions that may have a significant environmental effect, for which Environmental Assessments (EAs) must be prepared;

1.1319 Consideration of the environmental impact statements.

PART 2—FREQUENCY ALLOCATIONS AND RADIO TREATY MATTERS; GENERAL RULES AND REGULATIONS

Subpart I—Marketing of Radiofrequency Devices

Brief Description: The rules in part 2, subpart I, define radiofrequency devices and specify the requirements for marketing of such devices. Section 2.807 restates certain exemptions specified in section 302(c) of the Communications Act of 1934, as amended. Sections 2.811, 2.813 and 2.815 specify special requirements for specific devices.

Need: These rules provide exemption for certain transmitters and amplifiers as required by the Act or are under close control of the licensed user.

Legal Basis: 47 U.S.C. 154, 302a, 302c, 303, and 336.

Section Number and Title:

2.807 Statutory exceptions.

2.811 Transmitters operated under part 73 of this chapter.

2.813 Transmitters operated in the Instructional Television Fixed Service.

2.815 External radio frequency power amplifiers.

Subpart J—Equipment Authorization Procedures

Brief Description: These rules specify conditions associated with grant of equipment authorization under the Commission's rules.

Need: The rules provide procedures and conditions under which grants can be dismissed, limited and revoked. The rules also specify measurement procedures to be applied generally for radiofrequency devices.

Legal Basis: 47 U.S.C. 154, 302a, 303, and 336.

Section Number and Title:

2.917 Dismissal of application.

2.927 Limitations on grants.

2.937 Equipment defect and/or design change.

2.939 Revocation or withdrawal of equipment authorization.

2.941 Availability of information relating to grants.

2.945 Sampling tests of equipment compliance.

2.947 Measure procedure.

2.952 Limitation on verification.

2.953 Responsibility for compliance.

2.954 Identification.

2.955 Retention of records.

2.956 FCC inspection and submission of equipment for testing.

PART 15—RADIO FREQUENCY DEVICES

Subpart C—Intentional Radiators

Brief Description: The rule specifies radiated emission limits for intentional radiators for which no other requirements are identified in this part.

Need: The limits specified in this section cover emission from intentional radiators which are not explicitly identified in other rule parts and form the technical basis for other technical requirements.

Legal Basis: 47 U.S.C. 154, 302a, 303, 304, 307, 336, and 544a.

Section Number and Title:

15.209 Radiated emission limits; general requirements.

PART 22—PUBLIC MOBILE SERVICES

Subpart B—Licensing Requirements and Procedures

Brief Description: The part 22 rules state the conditions under which radio stations may be licensed and used in the Paging and Rural, Air-Ground, Cellular and Offshore Radiotelephone Services. Subpart B sets forth the rules governing the use of competitive bidding to resolve mutually exclusive applications for initial licenses.

Need: These rules are needed to implement the Commission's competitive bidding authority under 47 U.S.C. 309(j). The provisions in 47 CFR 22.217, 22.223, and 22.225 are necessary to administer the Commission's designated entity program under which small businesses meeting certain eligibility criteria may receive bidding credits on their winning bids.

Legal Basis: 47 U.S.C. 154, 222, 303, 309 and 332.

Section Number and Title:

22.131(d)(2)(v) Procedures for mutually exclusive applications.

22.201 Paging geographic area authorizations are subject to competitive bidding.

22.217 Bidding credit for small businesses.

22.221 Eligibility for partitioned licenses.

22.223 Designated entities.

22.225 Certifications, disclosures, records maintenance, and definitions.

22.227 Petitions to deny and limitations on settlements.

Subpart C—Operational and Technical Requirements

Brief Description: The part 22 rules set forth the conditions under which portions of the radio spectrum are made available and licensed for Public Mobile Services. Subpart C sets forth the technical and operational requirements for use of the spectrum and equipment in the Public Mobile Services.

Need: The rule informs licensees that, while most Public Mobile Service licensees must ensure that station transmissions are properly identified, station identification is not required for paging geographic area licensees.

Legal Basis: 47 U.S.C. 154, 222, 303, 309, and 332.

Section Number and Title:

22.313(a)(6) Station identification.

Subpart E—Paging and Radiotelephone Service

Brief Description: The part 22 rules set forth the conditions under which portions of the radio spectrum are made available and licensed for Public Mobile Services. Subpart E sets forth the technical and operational parameters for paging, one-way or two-way, point-to-point, point-to-multi-point, and 470-512 MHz trunked mobile operations within the Public Mobile Services.

Need: These rules establish the channels available for paging use, as well as the parameters under which the Commission considers and issues paging geographic area authorizations.

Legal Basis: 47 U.S.C. 154, 222, 303, 309, and 332.

Section Number and Title:

22.503 Paging geographic area authorizations.

22.531(f) Channels for paging operation.

Subpart F—Rural Radiotelephone Service

Brief Description: The part 22 rules set forth the conditions under which portions of the radio spectrum are made available and licensed for Public Mobile Services. Subpart F sets forth the technical and operational parameters for conventional rural radiotelephone stations and basic exchange telephone radio systems within the Public Mobile Services.

Need: These rules inform the public that eligible persons may apply for paging geographic area authorizations in the Rural Radiotelephone Service, and that authorizations for new facilities in the Rural Radiotelephone Service will be granted only on a secondary basis to existing or future co-channel paging geographic area authorization in the Paging and Radiotelephone Service or the Rural Radiotelephone Service.

Legal Basis: 47 U.S.C. 154, 222, 303, 309, and 332.

Section Number and Title:

22.721 Geographic area authorizations.

22.723 Secondary site-by-site authorizations.

PART 23—INTERNATIONAL FIXED RADIOCOMMUNICATION SERVICES

Brief Description: Outlines procedures for applicants for new stations to be located on the islands of Puerto Rico, Desecheo, Mona, Vieques, and Culebra, or for a modification of an existing authorization that would change the frequency, power, antenna height, directivity, or location of a station on these islands and would increase the likelihood of the authorized facility causing interference, to notify the Arecibo Observatory in Puerto Rico.

Need: To prevent interference from International Fixed Radiocommunication Services operations to Arecibo Observatory in Puerto Rico.

Legal Basis: 47 U.S.C. 154, 303. Interprets or applies 47 U.S.C. 301.

Section Number and Title:

23.20(f) Assignment of frequencies.

PART 24—PERSONAL COMMUNICATIONS SERVICES

Subpart H—Competitive Bidding Procedures for Broadband PCS

Brief Description: The part 24 rules set forth the conditions under which portions of the radio spectrum are made available and licensed for personal communications services (PCS). Subpart H sets forth the rules governing the use of competitive bidding to resolve mutually exclusive applications for initial broadband PCS licenses.

Need: These rules establish eligibility rules for broadband PCS licensees disaggregating or returning certain spectrum in the C block.

Legal Basis: 47 U.S.C. 154, 301, 302, 303, 309 and 332.

Section Number and Title:

24.709(a)(5)(i) and (iv) Eligibility for licenses for frequency Blocks C or F.

PART 25—SATELLITE COMMUNICATIONS

Subpart B—Applications and Licenses

Brief Description: Establishes that launch authorization and station license (i.e., operating authority) must be applied for and granted before a space station may be launched and operated in orbit. Establishes procedure for consideration of applications to launch and operate on-ground spare satellites.

Need: Explains to applicants the authorizations required to launch and operate space stations, and the process for obtaining launch and operation authority for on-ground spare satellites.

Legal Basis: Interprets or applies 47 U.S.C. 154, 301, 302, 303, 307, 309 and 332.

Section Number and Title:

25.113(g) Station licenses and launch authority.

Brief Description: Establishes procedures to permit earth and space station licensees to make certain modifications to their licenses without obtaining prior approval. Establishes process for providing Commission with notification of such modifications.

Need: Provides earth and space station licensees with flexibility to effectuate certain modifications without obtaining prior approval.

Legal Basis: Interprets or applies 47 U.S.C. 154, 301, 302, 303, 307, 309 and 332.

Section Number and Title:

25.118 Modifications not requiring prior authorization.

Brief Description: Establishes application procedures for licensing of very small aperture terminal earth station networks.

Need: Instructs licensees on the process for obtaining authorizations for very small aperture terminal earth station networks.

Legal Basis: Interprets or applies 47 U.S.C. 154, 301, 302, 303, 307, 309 and 332.

Section Number and Title:

25.134(d) Licensing provisions of Very Small Aperture Terminal (VSAT) and C-band Small Aperture Terminal (CSAT) networks.

Brief Description: Establishes application requirements for earth stations operating with non-U.S. licensed space stations.

Need: Instructs licensees on the process for obtaining authorization to operate earth stations with non-U.S. licensed space stations.

Legal Basis: Interprets or applies 47 U.S.C. 154, 301, 302, 303, 307, 309 and 332.

Section Number and Title:

25.137 Application requirements for earth stations operating with non-U.S. licensed space stations.

Brief Description: Establishes application, technical, construction, operating, and reporting requirements for the satellite digital audio radio service.

Need: Instructs licensees on the process for obtaining authorization and the operating requirements for the satellite digital audio radio service.

Legal Basis: Interprets or applies 47 U.S.C. 154, 301, 302, 303, 307, 309 and 332.

Section Number and Title:

25.144 Licensing provisions for the 2.3 GHz satellite digital audio radio service.

Brief Description: Establishes application, technical, construction, operating, and reporting requirements for satellites in the Fixed-Satellite Service in the 20/30 GHz bands.

Need: Instructs licensees on the process for obtaining authorization and operating requirements for satellites in the Fixed-Satellite Service in the 20/30 GHz bands.

Legal Basis: Interprets or applies 47 U.S.C. 154, 301, 302, 303, 307, 309 and 332.

Section Number and Title:

25.145 Licensing conditions for the Fixed-Satellite Service in the 20/30 GHz bands.

Subpart C—Technical Standards

Brief Description: Establishes spectrum frequencies available for exclusive use by the satellite digital audio radio service.

Need: Instructs licensees on the availability of spectrum frequencies for exclusive use by the satellite digital audio radio service.

Legal Basis: Interprets or applies 47 U.S.C. 154, 301, 302, 303, 307, 309 and 332.

Section Number and Title:

25.202(a)(6) Frequencies, frequency tolerance and emission limitations.

Brief Description: Outlines procedures for applicants for new permanent transmitting fixed earth stations to be located on the islands of Puerto Rico, Desecheo, Mona, Vieques, and Culebra, or for a modification of an existing authorization that would change the frequency, power, antenna height, directivity, or location of a station on these islands and would increase the likelihood of the authorized facility causing interference, to notify the Arecibo Observatory in Puerto Rico.

Need: To prevent interference from earth station operations to Arecibo Observatory in Puerto Rico.

Legal Basis: Interprets or applies 47 U.S.C. 154, 301, 302, 303, 307, 309 and 332.

Section Number and Title:

25.203(i) Choice of sites and frequencies.

Brief Description: Establishes requirement that all earth stations in the Fixed Satellite Service in the 20/30 GHz band employ uplink adaptive power control or other methods of fade compensation so that earth station transmissions meet the desired link performance while reducing interference between networks.

Need: To prevent interference between networks operating in the Fixed Satellite Service in the 20/30 GHz band.

Legal Basis: Interprets or applies 47 U.S.C. 154, 301, 302, 303, 307, 309 and 332.

Section Number and Title:

25.204(g) Power limits.

Brief Description: Establishes requirement that all space stations in the Fixed-Satellite Service in the 20/30 GHz band use either orthogonal linear or orthogonal circular polarization.

Need: To facilitate efficient use of satellite spectrum and prevent interference between networks operating in the Fixed Satellite Service in the 20/30 GHz band.

Legal Basis: Interprets or applies 47 U.S.C. 154, 301, 302, 303, 307, 309 and 332.

Section Number and Title:

25.210(b) Technical requirements for space stations in the Fixed-Satellite Service.

Brief Description: Establishes requirement that all space stations in the Fixed-Satellite Service in the 20/30 GHz band use state-of-the-art full frequency reuse either through the use of orthogonal polarizations within the same beam and/or through the use of spatially independent beams.

Need: To facilitate efficient use of satellite spectrum in the Fixed Satellite Service in the 20/30 GHz band.

Legal Basis: Interprets or applies 47 U.S.C. 154, 301, 302, 303, 307, 309 and 332.

Section Number and Title:

25.210(d) Technical requirements for space stations in the Fixed-Satellite Service.

Brief Description: Establishes technical standards for routine licensing of earth stations in the Fixed Satellite Service to provide transmission of full transponder analog video services.

Need: To instruct licensees of the technical standards that must be met to obtain routine licensing of earth stations in the Fixed Satellite Service to provide full transponder analog video services.

Legal Basis: Interprets or applies 47 U.S.C. 154, 301, 302, 303, 307, 309 and 332.

Section Number and Title:

25.211(d) Analog video transmissions in the Fixed-Satellite Services.

Brief Description: Establishes technical standards for routine licensing of earth stations in the Fixed Satellite Service in the 14.0-14.5 GHz band for transmission of narrowband analog services.

Need: To instruct licensees of the technical standards that must be met to obtain routine licensing of earth stations in the Fixed Satellite Service in the 14.0-14.5 GHz band for transmission of narrowband analog services.

Legal Basis: Interprets or applies 47 U.S.C. 154, 301, 302, 303, 307, 309 and 332.

Section Number and Title:

25.212(c) Narrowband analog transmissions, digital transmissions, and video transmissions in the GSO Fixed-Satellite Service.

Brief Description: Establishes technical standards for routine licensing of earth stations in the Fixed Satellite Service in the 5925-6425 MHz band for transmission of single channel per carrier services.

Need: To instruct licensees of the technical standards that must be met to obtain routine licensing of earth stations in the Fixed Satellite Service in the 5925-6425 MHz band for transmission of single channel per carrier services.

Legal Basis: Interprets or applies 47 U.S.C. 154, 301, 302, 303, 307, 309 and 332.

Section Number and Title:

25.212(d) Narrowband analog transmissions, digital transmissions, and video transmissions in the GSO Fixed-Satellite Service.

Brief Description: Establishes technical standards for construction, launch and operation of space stations in the satellite digital audio radio service.

Need: To instruct licensees of the technical standards for construction, launch and operation of space stations in the satellite digital audio radio service.

Legal Basis: Interprets or applies 47 U.S.C. 154, 301, 302, 303, 307, 309 and 332.

Section Number and Title:

25.214 Technical requirements for space stations in the satellite digital audio radio service.

Brief Description: Establishes procedures for time-sharing spectrum in the 137-138 MHz frequency band between non-voice, non-geostationary mobile-satellite service system licensees and National Oceanic and Atmospheric Administration satellite systems.

Need: To prevent intersystem interference between non-voice, non-geostationary mobile-satellite service system licensees and National Oceanic and Atmospheric Administration satellite systems time-sharing spectrum in the 137-138 MHz frequency band.

Legal Basis: Interprets or applies 47 U.S.C. 154, 301, 302, 303, 307, 309 and 332.

Section Number and Title:

25.259 Time sharing between NOAA meteorological satellite systems and non-voice, non-geostationary satellite systems in the 137-138 MHz band.

Brief Description: Establishes procedures for time-sharing spectrum in the 400.15-401 MHz frequency band between non-voice, non-geostationary mobile-satellite service system licensees and Department of Defense satellite systems.

Need: To prevent intersystem interference between non-voice, non-geostationary mobile-satellite service system licensees and Department of Defense satellite systems time-sharing spectrum in the 400.15-401 MHz frequency band.

Legal Basis: Interprets or applies 47 U.S.C. 154, 301, 302, 303, 307, 309 and 332.

Section Number and Title:

25.260 Time sharing between DoD meteorological satellite systems and non-voice, non-geostationary satellite systems in the 400.15-401 MHz band.

Subpart D—Technical Operations

Brief Description: Establishes process for operating satellites in inclined orbit.

Need: Informs licensees of process for operating satellites in inclined orbit mode.

Legal Basis: Interprets or applies 47 U.S.C. 154, 301, 302, 303, 307, 309 and 332.

Section Number and Title:

25.280 Inclined orbit operations.

Subpart F—Competitive Bidding Procedures for DARS

Brief Description: Establishes that mutually exclusive initial applications for the satellite digital audio radio service are subject to competitive bidding.

Need: Informs licensees of process for operating satellite digital audio radio service licenses.

Legal Basis: Interprets or applies 47 U.S.C. 154, 301, 302, 303, 307, 309 and 332.

Section Number and Title:

25.401 Satellite DARS applications subject to competitive bidding.

Brief Description: Establishes application process for eligibility to bid on satellite digital audio radio service licenses.

Need: Informs licensees of process for establishing eligibility to bid on satellite digital audio radio service licenses.

Legal Basis: Interprets or applies 47 U.S.C. 154, 301, 302, 303, 307, 309 and 332.

Section Number and Title:

25.403 Bidding application and certification procedures.

Brief Description: Establishes process for submitting downpayment and long-form application for high bidders in satellite digital audio radio service auctions.

Need: Informs licensees of process for submitting downpayment and long-form application for high bidders in satellite digital audio radio service auctions.

Legal Basis: Interprets or applies 47 U.S.C. 154, 301, 302, 303, 307, 309 and 332.

Section Number and Title:

25.404 Submission of downpayment and filing of long-form applications.

PART 27—MISCELLANEOUS WIRELESS COMMUNICATIONS SERVICES

Subpart A—General Information

Brief Description: The part 27 rules set forth the conditions under which portions of the radio spectrum are made available and licensed for wireless communications services (WCS).

Need: The identified rules in this subpart set forth the services and frequencies governed by the part 27 rules, which include Advanced Wireless Services (AWS), the Broadband Radio Service (BRS), and the Educational Broadband Service (EBS).

Legal Basis: 47 U.S.C. 154, 301, 302, 303, 307, 309, 332, 336, and 337.

Section Number and Title:

27.1 Basis and purpose.

27.2 Permissible communications.

27.3 Other applicable rule parts.

27.4 Terms and definitions.

27.5 Frequencies.

27.6 Service areas.

Subpart B—Applications and Licenses

Brief Description: The part 27 rules set forth the conditions under which portions of the radio spectrum are made available and licensed for wireless communications services (WCS). Subpart B sets out the regulations governing the authorization and licensing of WCS.

Need: The identified rules in this subpart are needed to set forth the application process and licensing rules for WCS, including construction requirements, criteria for renewal, and partitioning and disaggregation rules.

Legal Basis: 47 U.S.C. 154, 301, 302, 303, 307, 309, 332, 336, and 337.

Section Number and Title:

27.11 Initial authorization.

27.12 Eligibility.

27.13 License period.

27.14 Construction requirements; Criteria for comparative renewal proceedings.

27.15 Geographic partitioning and spectrum disaggregation.

Subpart C—Technical Standards

Brief Description: The part 27 rules set forth the conditions under which portions of the radio spectrum are made available and licensed for wireless communications services (WCS). Subpart C sets out the technical standards regarding WCS.

Need: The identified rules are necessary to set forth the technical standards for WCS.

Legal Basis: 47 U.S.C. 154, 301, 302, 303, 307, 309, 332, 336, and 337.

Section Number and Title:

27.50 Power and antenna height limits.

27.51 Equipment authorization.

27.52 RF safety.

27.53 Emission limits.

27.54 Frequency stability.

27.55 Signal strength limits.

27.56 Antenna structures; air navigation safety.

27.57 International coordination.

27.58 Interference to BRS/EBS receivers.

27.63 Disturbance of AM broadcast station antenna patterns.

27.64 Protection from interference.

Subpart D—Competitive Bidding Procedures for the 2305-2320 MHz and 2345-2360 MHz Bands

Brief Description: The part 27 rules state the conditions under which portions of the radio spectrum are made available and licensed for the provision of wireless communications services (WCS) in specified bands. Subpart D sets forth the rules governing the use of competitive bidding to resolve mutually exclusive applications for initial WCS licenses in the 2305-2320 and 2345-2360 MHz bands.

Need: These rules are needed to implement the Commission's competitive bidding authority under 47 U.S.C. 309(j), and to administer the Commission's designated entity program under which small businesses meeting certain eligibility criteria may receive bidding credits on their winning bids.

Legal Basis: 47 U.S.C. 154, 301, 302, 303, 307, 309, 332, 336, and 337.

Section Number and Title:

27.201 WCS in the 2305-2320 MHz and 2345-2360 MHz bands subject to competitive bidding.

27.209 Designated entities; bidding credits; unjust enrichment.

27.210 Definitions.

Subpart E—Application, Licensing, and Processing Rules for WCS

Brief Description: The part 27 rules set forth the conditions under which portions of the radio spectrum are made available and licensed for wireless communications services (WCS). Subpart E sets forth the application, licensing, and processing rules for WCS.

Need: The identified rules in this subpart are needed to set forth the application, licensing, and processing rules for WCS, including the technical requirements that must be included in license applications and what constitutes mutually exclusive applications.

Legal Basis: 47 U.S.C. 154, 301, 302, 303, 307, 309, 332, 336, and 337.

Section Number and Title:

27.302 Eligibility.

27.305 Reserved.

27.308 Technical content of applications.

27.321 Mutually exclusive applications.

27.323 Reserved.

PART 43—REPORTS OF COMMUNICATION COMMON CARRIERS AND CERTAIN AFFILIATES

Brief Description: These rules specify reporting requirements for local exchange carriers subject to sections 43.21 and 43.43 for the first time because their annual operating revenues equal or exceed the indexed revenue threshold used for classifying carrier categories for various accounting and reporting purposes for a given year. These carriers shall collect data for reporting purposes for the calendar year following the publication of the indexed revenue threshold in the Federal Register.

Need: These rules provide filing guidelines for local exchange carriers subject to sections 43.21 and 43.43. These rules facilitate the Commission's collection of information necessary to monitor activities associated with the provision of telecommunications services and the development of the telecommunications infrastructure.

Legal Basis: 47 U.S.C. 154, 211, 219, 220.

Section Number and Title:

43.01(c) Applicability.

Brief Description: These rules pertain to periodic reporting requirements of large incumbent local exchange carriers and certain of their affiliates. Communications common carriers having annual operating revenues in excess of the indexed revenue threshold, as defined in section 32.9000, are required to file annual reports described in these rules. The Commission's Automated Reporting Management Information System (ARMIS) was initiated to collect financial and operational data from the largest incumbent local exchange carriers. Additional ARMIS reports were added to collect service quality and network infrastructure information from local exchange carriers subject to price cap regulations. ARMIS currently consists of ten (10) reports filed pursuant to sections 43.21(d) through (j).

Need: The ARMIS reports were designed to provide policymakers information regarding revenues, expenses, and investment for incumbent providers.

Legal Basis: 47 U.S.C. 154, 211, 219, 220.

Section Number and Title:

43.21(d) through (j) Transactions with affiliates.

Brief Description: Establishes conditions under which common carriers engaged in providing international telecommunications service between the area comprising the continental United States, Alaska, Hawaii, and off-shore U.S. points and any country or point outside that area must file with the Commission quarterly traffic and revenue data. Establishes process for filing quarterly reports.

Need: To permit the monitoring of compliance with Commission rules and competition on international telecommunications routes in the public interest.

Legal Basis: 47 U.S.C. 154, 211, 219, and 220.

Section Number and Title:

43.61(b) Reports of international telecommunications traffic.

Brief Description: Establishes that common carriers engaged in the resale of international switched services that are also affiliated with a foreign carrier that has sufficient market power on the foreign end of an international route to affect competition adversely in the U.S. market and that collects settlement payments from U.S. carriers must file a quarterly traffic and revenue report for switched resale services on the dominant route.

Need: To permit the monitoring of compliance with Commission rules and competition on international telecommunications routes in the public interest.

Legal Basis: 47 U.S.C. 154, 211, 219, and 220.

Section Number and Title:

43.61(c) Reports of international telecommunications traffic.

PART 52—NUMBERING

Subpart D TOLL-FREE NUMBERS

Brief Description: These rules define the categories, by status, of toll-free numbers, and specify the interval between a toll-free number's reservation in the Service Management System (SMS) database and its conversion to working status, as well as the time between disconnection or cancellation of a toll-free number and the point when that toll-free number may be reassigned to another subscriber.

Need: The toll-free number rules enable the Commission to ensure the efficient, fair, and orderly allocation of toll-free numbers, as it is required to do under section 251(e) of the Communications Act, as amended. Inordinately long lag times between the withdrawal of a number from the SMS database and the conversion of that number to working status can exacerbate toll-free number shortage and exhaustion issues.

Legal Basis: 47 U.S.C. 151, 152, 154, 155, 251(e).

Section Number and Title:

52.103 Lag times.

Brief Description: This rule makes the act of reserving a toll-free number serve as a certification by a Responsible Organization, or “RespOrg” (the entity responsible for managing toll-free subscribers' records in the toll-free database) that there is an identified subscriber agreeing to be billed for service associated with the toll-free number, and that the RespOrg is not warehousing numbers. It requires specific language to be included in the SMS tariff stating that warehousing is an unreasonable practice under the Communications Act, and that RespOrgs warehousing numbers will be subject to penalties.

Need: The toll-free number rules enable the Commission to ensure the efficient, fair, and orderly allocation of toll-free numbers, as it is required to do under section 251(e) of the Communications Act, as amended. When RespOrgs hold more toll-free numbers than they need, these numbers cannot be distributed to RespOrgs with actual subscribers, who are ready to use the numbers. This can exacerbate toll-free number shortage and exhaustion issues.

Legal Basis: 47 U.S.C. 151, 152, 154, 155, 251(e).

Section Number and Title:

52.105 Warehousing.

Brief Description: This rule defines and prohibits the practices of hoarding and brokering toll-free numbers, and requires specific language to be included in the SMS tariff stating that hoarding is contrary to the public interest.

Need: The toll-free number rules enable the Commission to ensure the efficient, fair, and orderly allocation of toll-free numbers, as it is required to do under section 251(e) of the Communications Act, as amended. Hoarding causes toll-free numbers to remain inactive and unavailable for subscribers who need working toll-free numbers, which can exacerbate toll-free number shortage and exhaustion issues.

Legal Basis: 47 U.S.C. 151, 152, 154, 155, 251(e).

Section Number and Title:

52.107 Hoarding.

Brief Description: This rule caps the total number of toll-free numbers a RespOrg may have in reserved status to the greater of 7.5 percent of the RespOrg's total working numbers or 2000 numbers, and concludes that no RespOrg may have in reserved status, at any time, more than 3 percent of the numbers that were in the spare pool for general reservation from the database at 12:01 a.m. ET of the preceding Sunday.

Need: The toll-free number rules enable the Commission to ensure the efficient, fair, and orderly allocation of toll-free numbers, as it is required to do under section 251(e) of the Communications Act, as amended. Without any market mechanism to discourage warehousing, a cap on a RespOrg's ability to reserve numbers is necessary to assure all RespOrgs that other RespOrgs cannot stockpile large quantities of numbers through the reservation process.

Legal Basis: 47 U.S.C. 151, 152, 154, 155, 251(e).

Section Number and Title:

52.109 Permanent cap on number reservations.

PART 54—UNIVERSAL SERVICE

Subpart A—General Information

Brief Description: These rules provide general information regarding the Universal Service Fund, including various terms and definitions that are referenced throughout section 54 of the Commissions rules.

Need: In implementing statutory requirements for the Universal Service Fund, these rules provide necessary information regarding terms that may have different definitions outside the universal service context.

Legal Basis: 47 U.S.C. 254.

Section Numbers and Titles:

54.1 Basis and purpose.

54.5 Terms and definitions.

Subpart B—Services Designated for Support

Brief Description: These rules specify the supported services for rural, insular and high cost areas. These rules also specify the requirement to offer all designated services, as well as to provide additional time for telecommunications carriers to complete network upgrades.

Need: These rules ensure that rural, insular and high cost areas receive support for the specified designated telecommunications services.

Legal Basis: 47 U.S.C. 254.

Section Number and Title:

54.101 Supported services for rural, insular and high cost areas.

Subpart C—Carriers Eligible for Universal Service Support

Brief Description: These rules specify the requirements for the designation of eligible telecommunications carriers. Congress has established that only those entities designated as eligible telecommunications carriers may receive support under the Universal Service support mechanism. These rules include the requirements regarding the relinquishment of designation as an eligible telecommunications carrier.

Need: These rules ensure that the designation process for eligible telecommunications carriers meets the statutory requirements for the Universal Service support mechanism.

Legal Basis: 47 U.S.C. 214(e)(2), 214(e)(4), 214(e)(6), 254(e).

Section Numbers and Titles:

54.201 Definition of eligible telecommunications carriers, generally.

54.203 Designation of eligible telecommunications carriers for unserved areas.

54.205 Relinquishment of universal service.

54.207 Service areas.

Subpart D—Universal Service Support for High Cost Areas

Brief Description: These rules specify the requirements for the High Cost support mechanism. These rules provide requirements for how High Cost support will be calculated and distributed to eligible telecommunications providers.

Need: In implementing statutory requirements for the High Cost Program of the Universal Service support mechanism, these rules ensure that rates in rural, insular and high cost areas, are “reasonably comparable” to rates charged for similar services in urban areas.

Legal Basis: 47 U.S.C. 254(b).

Section Numbers and Titles:

54.301 Local switching support.

54.303 Long term support.

54.305 Sale or transfer of exchanges.

54.307 Support to a competitive eligible telecommunications carrier.

Subpart E—Universal Service Support for Low Income Consumers

Brief Description: These rules specify the requirements for the Lifeline and Link Up Program of the Universal Service support mechanism. The rules establish the requirements for eligible consumers and eligible telecommunications carriers. The rules also establish certification and verification requirements, as well as recordkeeping and auditing requirements.

Need: In implementing statutory requirements for the Lifeline and Linkup Program of the Universal Service support mechanism, these rules ensure that quality telecommunications services are available to low-income consumers at reasonable and affordable rates.

Legal Basis: 47 U.S.C. 254(b).

Section Numbers and Titles:

54.400 Terms and definitions.

54.401 Lifeline defined.

54.403 Lifeline support amount.

54.405 Carrier obligation to offer Lifeline.

54.407 Reimbursement for offering Lifeline.

54.409 Consumer qualification for Lifeline.

54.411 Link Up program defined.

54.413 Reimbursement for revenue forgone in offering a Link Up program.

54.415 Consumer qualification for Link Up.

54.417 Recordkeeping requirements.

Subpart F—Universal Service Support for Schools and Libraries

Brief Description: These rules specify the requirements for participation in the Schools and Libraries Program of the Universal Service support mechanism. The rules describe requirements regarding eligible entities, and the services eligible for discounted support. The rules also establish procedures for the application process, competitive bidding process, and the distribution of support. Finally, these rules establish recordkeeping and auditing requirements.

Need: In implementing statutory requirements for the Schools and Libraries support mechanism, these rules ensure that eligible schools, libraries, and consortia that include eligible schools and libraries receive discounts for eligible telecommunications services, Internet access, and internal connections.

Legal Basis: 47 U.S.C. 254(h)(1)(B).

Section Numbers and Titles:

54.500 Terms and definitions.

54.501 Eligibility for services provided by telecommunications carriers.

54.502 Supported telecommunications services.

54.503 Other supported special services.

54.504 Requests for services.

54.505 Discounts.

54.507 Cap.

54.509 Adjustments to the discount matrix.

54.511 Ordering services.

54.513 Resale and transfer of services.

54.515 Distributing support.

54.516 Auditing.

54.517 Services provided by non-telecommunications carriers.

Subpart G—Universal Service Support for Health Care Providers

Brief Description: These rules specify the requirements for participation in the Rural Health Program of the Universal Service support mechanism. The rules establish the requirements for eligible health care providers, and the services eligible for discounted support. The rules also establish procedures for the application process, competitive bidding process, and the distribution of support. Finally, these rules establish recordkeeping and auditing requirements.

Need: In implementing statutory requirements for the Rural Health Care support mechanism, these rules ensure that discounts are available to eligible rural health care providers for telecommunications services and monthly Internet access service charges.

Legal Basis: 47 U.S.C. 254(h)(2)(A).

Section Numbers and Titles:

54.601 Eligibility.

54.603 Competitive bid requirements.

54.605 Determining the urban rate.

54.607 Determining the rural rate.

54.609 Calculating support.

54.611 Distributing support.

54.613 Limitations on supported services for rural health care providers.

54.615 Obtaining services.

54.617 Resale.

54.619 Audits and recordkeeping.

54.621 Access to advanced telecommunications and information services.

54.623 Cap.

Subpart H—Administration

Brief Description: These rules specify the requirements regarding the Universal Service Administrative Company, as the permanent Administrator for the Universal Service support mechanism. These rules establish the Administrator's functions and responsibilities, as well as, the composition of the Administrator's Board of Directors and Committees. These rules also establish requirements regarding contributions and contributor reporting requirements.

Need: In implementing statutory requirements for the Universal Service support mechanism, these rules provide the framework and requirements for the administration of the program.

Legal Basis: 47 U.S.C. 254.

Section Numbers and Titles:

54.701 Administrator of universal service support mechanisms.

54.703 The Administrator's Board of Directors.

54.705 Committees of the Administrator's Board of Directors.

54.707 Audit controls.

54.709 Computations of required contributions to universal service support mechanisms.

54.711 Contributor reporting requirements.

54.713 Contributor's failure to report or to contribute.

PART 59—INFRASTRUCTURE SHARING

Brief Description: These rules specify the general duty of incumbent LECs to provide to certain qualifying LECs (i.e., carriers that fulfill universal service obligations) access to public switched network infrastructure, technology, information, and telecommunications facilities and functions used to provide telecommunications services, or access to information services, and set forth general terms and conditions for such sharing.

Need: These rules provide qualifying carriers with a flexible means of obtaining needed infrastructure from incumbents, and of doing so in ways that take advantage of the economies of scope and scale enjoyed by incumbents. The rules particularly benefit smaller local service providers.

Legal Basis: 47 U.S.C. 154(i), 154(j), 201-205, 259, 303(r), 403.

Section Number and Title:

59.1 General duty.

Brief Description: These rules specify that incumbent LECs subject to this section: Shall not be required to take any action that is economically unreasonable or contrary to the public interest; may, but are not required to, enter into joint ownership or operation of the infrastructure to be shared with a qualifying carrier; shall not be treated as a common carrier or as offering common carrier services with respect to any shared infrastructure; shall make the infrastructure to be shared available to a qualifying carrier on just and reasonable terms and pursuant to conditions that permit the qualifying carrier to benefit fully from the economies of scale and scope of the LEC; must give notice to the qualifying carrier at least sixty days before terminating an infrastructure sharing agreement; shall not be required to share infrastructure for any services or access which are to be provided by the qualifying carrier in the LEC's telephone exchange area; and shall file for public inspection any tariffs, contracts, or other arrangements showing the rates, terms, and conditions under which the LEC is making such infrastructure available pursuant to this part.

Need: These rules promote universal service in areas that may be without competitive service providers, without restricting the development of competition.

Legal Basis: 47 U.S.C. 154(i), 154(j), 201-205, 259, 303(r), 403.

Section Number and Title:

59.2 Terms and Conditions of infrastructure sharing.

Brief Description: These rules specify that an incumbent LEC that has entered into an infrastructure sharing agreement under this section shall provide to each party to such agreement timely information on the planned deployment of telecommunications services and equipment, including any software or upgrades of software integral to the use or operation of such telecommunications equipment.

Need: These rules promote universal service in areas that may be without competitive service providers, without restricting the development of competition.

Legal Basis: 47 U.S.C. 154(i), 154(j), 201-205, 259, 303(r), 403.

Section Number and Title:

59.3 Information concerning deployment of new services and equipment.

Brief Description: This rule defines the term “qualifying carrier” for the purposes of infrastructure sharing pursuant to this subpart. A “qualifying carrier” means a telecommunications carrier that lacks economies of scale or scope and offers telephone exchange service, exchange access, and any other service that is included in universal service, to all consumers without preference throughout the service area for which such carrier has been designated as an eligible telecommunications carrier under 47 U.S.C. section 214(e).

Need: These rules are designed to promote universal service in areas that may be without competitive service providers, without restricting the development of competition.

Legal Basis: 47 U.S.C. 154(i), 154(j), 201-205, 259, 303(r), 403.

Section Number and Title:

59.4 Definition of “qualifying carrier.”

PART 61—TARIFFS

Subpart E—General Rules for Dominant Carriers

Brief Description: The part 61 rules are designed to implement the provisions of sections 201, 202, 203, and 204 of the Communications Act of 1934, as amended, and ensure that rates are just, reasonable, and not unjustly or unreasonably discriminatory. These rules govern the filing, form, content, public notice periods, and accompanying support materials for tariffs.

Need: Section 61.33 facilitates tariff transmittals filed on 7- or 15-days' notice and to clearly identify such transmittals for the ease and convenience of those who may want to comment on the filings. Section 61.45 was adopted to avoid unfairly imposing a subsidy burden on ratepayers and will align charges more closely with LECs' costs.

Legal Basis: 47 U.S.C. 151, 154(i), 154(j), 201-205, 403.

Section Number and Title:

61.33(d) Letters of transmittal;

61.45(d)(1)(ix) Adjustments to the PCI for Local Exchange Carriers.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: Establishes process for requesting streamlined processing for applications for international common carriers.

Need: Informs licensees on the process for requesting streamlined processing for applications for international common carriers.

Legal Basis: 47 U.S.C. 151, 154(i), 154(j), 160, 201-205, 214, 218, 403, and 571.

Section Number and Title:

63.18(p) Contents of applications for international common carriers.

Brief Description: Establishes that authorized carriers may not receive from a foreign carrier any proprietary or confidential information pertaining to a competing U.S. carrier, obtained by the foreign carrier in the course of its normal business dealings, unless the competing U.S. carrier provides its permission in writing.

Need: Protects against carrier anticompetitive conduct on U.S.-international telecommunications routes.

Legal Basis: 47 U.S.C. 151, 154(i), 154(j), 160, 201-205, 214, 218, 403, and 571.

Section Number and Title:

63.21(f) Conditions applicable to all international section 214 authorizations.

Brief Description: Establishes that the Commission reserves the right to review a carrier's authorization, and, if warranted, impose additional requirements on U.S. international carriers in circumstances where it appears that harm to competition is occurring on one or more U.S. international routes.

Need: Protects against carrier anticompetitive conduct on U.S.-international telecommunications routes.

Legal Basis: 47 U.S.C. 151, 154(i), 154(j), 160, 201-205, 214, 218, 403, and 571.

Section Number and Title:

63.21(g) Conditions applicable to all international section 214 authorizations.

PART 64—MISCELLANEOUS RULES RELATING TO COMMON CARRIERS

Subpart I—Allocation of Costs

Brief Description: These rules specify that a telecommunications carrier may not use services that are not competitive to subsidize services subject to competition, and that services included in the definition of universal service shall bear no more than a reasonable share of the joint and common costs of facilities used to provide those services.

Need: This provision implements the statutory requirement that carriers, in setting their rates, not attempt to gain an unfair market advantage in competitive markets by allocating to their less competitive services, for which subscribers have no available alternative, an excessive portion of the costs incurred by their competitive operations.

Legal Basis: 47 U.S.C. 154(i), 154(j), 201-205, 254(k), 259, 303(r), 403.

Section Number and Title:

64.901(c) Carriers may not use services that are not competitive to subsidize services subject to competition.

Subpart T—Separate Affiliate Requirements for Incumbent Independent Local Exchange Carriers That Provide In-Region, Interstate Domestic Interexchange Services or In-Region, International Interexchange Services

Brief Description: These rules require incumbent independent LECs that provide in-region, interstate, interexchange services or in-region international interexchange services to do so through a separate affiliate as defined in section 64.1903 of the Commission's rules. The separate affiliate must maintain separate books of account, may not jointly own transmission or switching facilities with the LEC, must acquire tariffed services from the LEC at tariffed rates, and must be a separate legal entity (or, in some circumstances, separate corporate division) of the LEC.

Need: This provision furthers the pro-competitive, deregulatory objectives of the 1996 Act by promoting increased competition in the interexchange market and the development of competitive, deregulated markets envisioned by Congress.

Legal Basis: 47 U.S.C. 151, 152, 154, 201, 202, 251, 271, 272, 303(r).

Section Number and Title:

64.1903 Obligations of all incumbent independent local exchange carriers.

PART 68—CONNECTION OF TERMINAL EQUIPMENT TO THE TELEPHONE NETWORK

Subpart B—Conditions on the Use of Terminal Equipment

Brief Description: These rules specify that wireline carriers may not bar connection of terminal equipment (TE) to the Public Switched Telephone Network (PSTN) provided the TE would not cause harm to the PSTN. Part 68 requires that TE be tested to show that it will not harm the PSTN or carrier personnel, and then be listed with the Administrative Council for Terminal Attachments (ACTA) which maintains a database of all TE approved for connection to the PSTN. Carriers are obligated to permit the free connection of approved TE to the PSTN, but they can require disconnection of TE that is not approved or that causes harm to the PSTN. Part 68 provides for the identification, review and publication of technical criteria used in testing CPE for part 68 compliance. Part 68 also establishes the right of customers to use competitively provided inside wiring.

Need: These rules foster competition in the provision of TE and inside wiring by permitting the connection of competitively provided TE and inside wiring to the PSTN. Part 68 is also intended to ensure that the connection of TE and inside wiring does not harm the PSTN or injure carrier personnel.

Legal Basis: 47 U.S.C. 154, 155, 303.

Section Number and Title:

68.110(c) Compatibility of the public switched telephone network and terminal equipment.

PART 69—ACCESS CHARGES

Subpart A—General

Brief Description: The part 69 rules are designed to implement the provisions of sections 201 and 202 of the Communications Act of 1934, as amended, and protect consumers by preventing the exercise of market power by incumbent LECs.

Need: Section 69.4 was adopted to foster competition, move access charges over time to more economically efficient levels and rate structures, preserve universal service, and lower rates by listing the charges to be included in the carrier's carrier charges for access service that are filed by price cap LECs. These rules help ensure that rates are just, reasonable, and not unjustly or unreasonably discriminatory.

Legal Basis: 47 U.S.C. 154, 201-203, 205, 218, 220, 254, and 403.

Section Number and Title:

69.4(h) Charges to be filed.

Subpart B—Computation of Charges

Brief Description: The part 69 rules are designed to implement the provisions of sections 201 and 202 of the Communications Act of 1934, as amended, and protect consumers by preventing the exercise of market power by incumbent LECs.

Need: Section 69.106 permits, but does not require, price cap LECs to establish a separate per-call setup charge assessed on IXCs for all calls handed off to the IXC's point of presence. Section 69.111 lays out a clear transport rate structure transition plan that describes all the steps necessary to achieve cost-based transport rates. Section 69.123 to ensure that access charges more closely reflect the costs imposed by individual access customers. These rules help to ensure that rates are just, reasonable, and not unjustly or unreasonably discriminatory.

Legal Basis: 47 U.S.C. 154, 201-203, 205, 218, 220, 254, and 403.

Section Number and Title:

69.106(f) Local switching.

69.111(l) Tandem-switched transport and tandem charge.

69.123(f)(2), (3) Density pricing zones for special access and switched transport.

Subpart C—Computation of Charges for Price CAP Local Exchange Carriers

Brief Description: The part 69 rules are designed to implement the provisions of sections 201 and 202 of the Communications Act of 1934, as amended, and protect consumers by preventing the exercise of market power by incumbent LECs.

Need: Sections 69.154 and 69.155 phase out significant implicit subsidies in the access charge rate structure, while taking into account universal service concerns of affordability and access. The resulting rate structure is more closely aligned with cost principles. These rules help ensure that rates are just, reasonable, and not unjustly or unreasonably discriminatory.

Legal Basis: 47 U.S.C. 154, 201-203, 205, 218, 220, 254, and 403.

Section Number and Title:

69.154(a)(2), (b), (c) Per-minute carrier common line charge.

69.155 Per-minute residual interconnection charge.

Subpart D—Apportionment of Net Investment

Brief Description: The part 69 rules are designed to implement the provisions of sections 201 and 202 of the Communications Act of 1934, as amended, and protect consumers by preventing the exercise of market power by incumbent LECs.

Need: Sections 69.305 and 69.307 establish, for cost allocation purposes, category revenue requirements that include overheads allocated generally based on relative costs. These rules help ensure that rates are just, reasonable, and not unjustly or unreasonably discriminatory.

Legal Basis: 47 U.S.C. 154, 201-203, 205, 218, 220, 254, and 403.

Section Number and Title:

69.305(e) Carrier cable and wire facilities (C&WF).

69.307(d) General support facilities.

PART 73—RADIO BROADCAST SERVICES

Subpart B—FM Broadcast Stations

Brief Description: This rule and process change eliminates the construction permit requirement for certain minor changes to broadcast facilities, specifically codifying the policy which requires that the measured FM directional pattern be at least 85% of the authorized composite FM directional pattern for contour protection stations authorized under 73.215 or 73.509.

Need: This rule is intended to reduce the amount of processing time, cost, and burden on both applicants and the Commission.

Legal Basis: 47 U.S.C. 154, 303, 334, 336.

Section Number and Title:

73.316(c)(2)(ix) FM antenna systems.

Subpart E—Television Broadcast Stations

Brief Description: These rules adopt policies, procedures, and technical criteria for the use in conjunction with broadcast digital television (DTV), a DTV Table of Allotments, a plan for the recovery of a portion of the spectrum currently allocated to TV broadcasting, and provides procedures for assigning DTV frequencies.

Need: These rules are intended to allot DTV channels in a manner that is most efficient for broadcasters and the public, and least disruptive to broadcast television service during the period of transition from NTSC to DTV service.

Legal Basis: 47 U.S.C. 154(i), 157, 301, 302, 303, 307, 336.

Section Number and Title:

73.622 Digital television table of allotments.

73.623 DTV applications and changes to DTV allotments.

73.624 Digital television broadcast stations.

73.625 DTV coverage of principal community and antenna system.

Brief Description: This rule adds a transmission standard for digital broadcast television signals.

Need: This rule is necessary to ensure that the benefits of digital technology are available to terrestrial television broadcasting and to the American public. The rule is designed to provide the certainty that many broadcasters, equipment manufacturers, and consumers need to invest in new technology.

Legal Basis: 47 U.S.C. 154(i), (j), 303(r).

Section Number and Title:

73.682(d) TV transmission standards.

Subpart H—Rules Applicable to All Broadcast Stations

Brief Description: This rule and process change eliminates the construction permit requirement for certain minor changes to broadcast facilities, specifically codifying the current conditions imposed on construction permits for AM, FM, and TV stations which are authorized to construct on or near AM stations.

Need: This rule is intended to reduce the amount of processing time, cost, and burden on both applicants and the Commission.

Legal Basis: 47 U.S.C. 154, 303, 334, 336.

Section Number and Title:

73.1692 Broadcast station construction near or installation on an AM broadcast tower.

PART 74—EXPERIMENTAL RADIO, AUXILIARY, SPECIAL BROADCAST AND OTHER PROGRAM DISTRIBUTIONAL SERVICES

Subpart G—Low Power TV, TV Translator, and TV Booster Stations

Brief Description: These rules adopt policies, procedures, and technical criteria for use in conjunction with broadcast digital television (DTV), and provide procedures for assigning DTV frequencies.

Need: These rules are intended to allot DTV channels in a manner that is most efficient for broadcasters and the public, and least disruptive to broadcast television service during the period of transition from NTSC to DTV service.

Legal Basis: 47 U.S.C. 154, 303, 336, 554.

Section Number and Title:

74.705(e) TV broadcast analog station protection.

74.706 Digital TV (DTV) station protection.

74.707(e) Low power TV and TV translator.

Subpart L—FM Broadcast Translator Stations and FM Broadcast Booster Stations

Brief Description: This rule and process change eliminates the construction permit requirement for certain minor changes to broadcast facilities, and requires a translator or booster station to be located on an AM antenna tower or located within 3.2 km of an AM antenna tower to comply with 73.1692.

Need: The rule permits certain types of modifications to ensure that interference with other facilities would not be created by minor changes to broadcast facilities.

Legal Basis: 47 U.S.C. 154, 307, 554.

Section Number and Title:

74.1237(e) Antenna location.

PART 76—MULTICHANNEL VIDEO AND CABLE TELEVISION SERVICE

Subpart M—Cable Inside Wiring

Brief Description: These rules establish regulations for the disposition of home run wiring and related issues including the sharing of molding, the demarcation point for multiple dwelling unit buildings (“MDUs”), loop-through cable wiring configurations, customer access to cable home wiring before termination of service, and signal leakage.

Need: These rules are necessary because competition is being deterred by disputes over control and use of the wires necessary to reach each unit in an MDU. The intended effect of this action is to expand opportunities for new entrants seeking to compete in distributing video programming and to broaden consumers' ability to install and maintain their own wiring.

Legal Basis: 47 U.S.C. 151, 152, 153, 154, 301, 302, 202, 303a, 307, 308, 309, 312, 315, 317, 325, 503, 521, 522, 531, 532, 533, 534, 535, 536, 537, 543, 544, 544a, 545, 548, 552, 554, 556, 558, 560, 561, 571, 572, 573.

Section Number and Title:

76.800 Definitions.

76.802(l) Disposition of cable home wiring.

76.804 Disposition of home run wiring.

76.805 Access to molding.

76.806 Pre-termination access to cable home wiring.

Subpart N—Cable Rate Regulation

Brief Description: This rule amends the Commission's regulations to permit the establishment by a cable operator of uniform rates for uniform services offered across multiple franchise areas on a case-by-case basis upon the Commission's finding that the cable operator's submission of a proposed uniform rate proposal and supporting justification demonstrates that the proposed rate structure is reasonable, so long as the rate is determined in accordance with the Commission's procedures and requirements set forth in CS Docket No. 95-174.

Need: The rule fulfills Congress's preference that rates be set pursuant to competition rather than regulation.

Legal Basis: 47 U.S.C. 154(i), 154(j), 303(r), 543.

Section Number and Title:

76.922(n) Rates for the basic service tier and cable programming service tiers.

Brief Description: This rule amends the rules to reflect that a system that is eligible to establish its rates in accordance with the small system cost-of-service approach shall remain eligible for so long as the system serves no more than 15,000 subscribers. When a system that has established rates in accordance with the small system cost-of-service approach exceeds 15,000 subscribers, the system may maintain its then existing rates. After exceeding the 15,000 subscriber limit, any further rate adjustments shall not reflect increases in external costs, inflation or channel additions until the system has re-established initial permitted rates in accordance with some other method of rate regulation prescribed in this subpart.

Need: The rule was amended in order to codify existing Commission policy.

Legal Basis: 47 U.S.C. 154(i), 154(j), 303(r), 543.

Section Number and Title:

76.934(h)(11) Small systems and small cable companies.

Brief Description: These rules require cable operators to prorate their maximum full-time rate when determining their maximum permitted part-time rate, and to allow operators to adjust part-time rates according to time-of-day pricing, requires cable operators to produce leased access information within a certain time period to prospective leased access programmers, permits cable operators to negotiate rates below the maximum leased access rates, prohibits cable operators from reselling leased access capacity to persons unaffiliated with the operator, permits them to note in their leased access contracts that any sublessees will be subject to the non-price terms and conditions that apply to the initial lessee, and that, if the capacity is resold, the rate for the capacity shall be the maximum permissible rate.

Need: These rules implement the leased commercial access provisions of the 1992 Cable Act.

Legal Basis: 47 U.S.C. 154(i), 154(j), 532.

Section Number and Title:

76.970(h), (i) Commercial leased access rates.

76.971(h) Commercial leased access terms and conditions.

Subpart S—Open Video Systems

Brief Description: These rules amend the process by which open video system certifications are handled by the Commission, and impose additional requirements on the content of open video system complaints.

Need: These rules further Congress's mandate in adopting the 1996 Act and provide guidance to open video system certification applicants, open video system operators, video programming providers and consumers concerning open video systems.

Legal Basis: 47 U.S.C. 154(i), 154(j), 303(r), 573.

Section Number and Title:

76.1502(f) Certification.

76.1513(d)(8) and (9) Open video dispute resolution.

PART 79—CLOSED CAPTIONING AND VIDEO DESCRIPTION OF VIDEO PROGRAMMING

Brief Description: These rules generally assign responsibility for compliance with the closed captioning video programming requirements to the entity which delivers the programming to the consumer, establish separate transition schedules for programming first published or exhibited on or after the effective date of these rules and for programming first published or exhibited prior to the effective date of the rules, provide for a number of exemptions authorized by Congress, and establish mechanisms for enforcement and compliance review.

Need: These rules implement statutory requirements that generally require the closed captioning of video programming, and are intended to increase the accessibility of video programming for persons with hearing disabilities.

Legal Basis: 47 U.S.C. 154(i), 303(r), 613.

Section Number and Title:

79.1 Closed captioning of video programming.

PART 80—STATIONS IN THE MARITIME SERVICES

Subpart C—Operating Requirements and Procedures

Brief Description: The part 80 rules set forth the conditions under which portions of the radio spectrum are made available and licensed for stations in the maritime services. Subpart C sets forth the technical, operational, and administrative requirements for use of the spectrum and equipment for stations in the maritime services.

Need: These rules inform the public of the parameters under which Marine VHF public coast stations, including automated maritime telecommunications system (AMTS) coast stations, may provide public correspondence service to stations on land, and establish the procedure for Alaskan private coast stations use of facsimile operations.

Legal Basis: 47 U.S.C. 154, 303, 307, 309, and 332.

Section Number and Title:

80.123 Service to stations on land.

80.133 Private coast stations using facsimile in Alaska.

Subpart E—General Technical Standards

Brief Description: The part 80 rules set forth the conditions under which portions of the radio spectrum are made available and licensed for stations in the maritime services. Subpart E sets forth the general technical standards for use of frequencies and equipment in the maritime services, including standards for equipment authorization, frequency tolerance, modulation, emission, power, and bandwidth.

Need: The rules inform licensees that marine radio transmitter type-acceptance applications must have a compliant digital selective calling (DSC) capability (this does not apply to AMTS or hand-held portable transmitters), and establish the conditions under which brief signaling, for the purposes of measuring radio channel quality and subsequently establishing communications in the 2 MHz-30 MHz band, may be used.

Legal Basis: 47 U.S.C. 154, 303, 307, 309, and 332.

Section Number and Title:

80.203(n) Authorization of transmitters for licensing.

80.229 Special requirements for automatic link establishment (ALE).

Subpart H—Frequencies

Brief Description: The part 80 rules set forth the conditions under which portions of the radio spectrum are made available and licensed for stations in the maritime services. Subpart H describes the carrier frequencies and general uses of radiotelegraphy for distress, urgency, safety, call and reply; working; digital selective calling; narrow-band direct-printing; and facsimile, for stations within the maritime services.

Need: This rule informs licensees of the frequencies, and attendant conditions, that ship and coast stations may use for facsimile transmission.

Legal Basis: 47 U.S.C. 154, 303, 307, 309, and 332.

Section Number and Title:

80.363(c) Frequencies for facsimile.

Subpart J—Public Coast Stations

Brief Description: The part 80 rules set forth the conditions under which portions of the radio spectrum are made available and licensed for stations in the maritime services. Subpart J sets forth certain technical and operational requirements for Public Coast stations within the maritime services.

Need: This rule informs licensees that public coast stations are authorized to communicate with units on land in accordance with 47 CFR 80.123.

Legal Basis: 47 U.S.C. 154, 303, 307, 309, and 332.

Section Number and Title:

80.453(a)(4) Scope of communications.

Subpart K—Private Coast Stations and Marine Utility Stations

Brief Description: The part 80 rules set forth the conditions under which portions of the radio spectrum are made available and licensed for stations in the maritime services. Subpart K sets forth the operational and technical requirements for Private Coast and Marine Utility Stations within the maritime services.

Need: This rule informs licensees that a private coast station is authorized to use hand-held marine radios for conforming communications in the vicinity of the station's fixed transmitter site on the frequencies assigned to the private coast station.

Legal Basis: 47 U.S.C. 154, 303, 307, 309, and 332.

Section Number and Title:

80.507(d) Scope of service.

PART 87—AVIATION SERVICES

Subpart D—Technical Requirements

Brief Description: The part 87 rules set forth the conditions under which portions of the radio spectrum are made available and licensed for aviation services. Subpart D sets forth the technical requirements for licensees operating in the aviation services, including power and emissions, modulation and transmitter control requirements, and equipment authorization.

Need: The rule establishes the conditions under which brief signaling for the purposes of measuring radio channel quality and subsequently establishing communications in the 2 MHz-30 MHz band.

Legal Basis: 47 U.S.C. 154, 303, and 307.

Section Number and Title:

87.149 Special requirements for automatic link establishment (ALE).

PART 90—PRIVATE LAND MOBILE RADIO SERVICES

Subpart B—Public Safety Radio Pool

Brief Description: The part 90 rules state the conditions under which radio communications systems may be licensed and used in the Public Safety, Industrial/Business Radio Pool, and Radiolocation Radio Services. Subpart B indicates that the Public Safety Radio Pool encompasses the radio communications licensing of governmental entities and entities engaged in medical services, rescue organizations, school buses, beach patrols, persons with disabilities, veterinarians, and disaster relief organizations, establishments in isolated places, communications standby facilities, and emergency repair of public communications facilities.

Need: These rules note the scope of the Public Safety Radio Pool, the establishment of a Public Safety National Plan, and various eligibility requirements for entities seeking to hold authorizations in the Public Safety Radio Pool.

Legal Basis: 47 U.S.C. 154, 161, 303, and 332.

Section Number and Title:

90.15 Scope.

90.16 Public Safety National Plan.

90.20 Public Safety Pool.

90.22 Paging operations.

Subpart C—Industrial/Business Radio Pool

Brief Description: The part 90 rules state the conditions under which radio communications systems may be licensed and used in the Public Safety, Industrial/Business Radio Pool, and Radiolocation Radio Services. Subpart C states that the Industrial/Business radio Pool covers licensing of those engaged in clerical or commercial activities; educational, philanthropic, or ecclesiastical institutions; and hospitals, clinics, and medical associations.

Need: These rules concern the establishment of, the scope of, and eligibility for the Industrial/Business Radio Pool, including availability of certain frequencies, and attendant administrative, technical and operational obligations.

Legal Basis: 47 U.S.C. 154, 161, 303, and 332.

Section Number and Title:

90.31 Scope.

90.33 General eligibility.

90.35 Industrial/Business Pool.

Subpart G—Applications and Authorizations

Brief Description: The part 90 rules state the conditions under which radio communications systems may be licensed and used in the Public Safety, Industrial/Business Radio Pool, and Radiolocation Radio Services. Subpart G governs the application procedures and terms of authorizations in these services.

Need: The identified rule is necessary to ensure that certain part 90 licensees have disaster communications plans in place prior to requesting on certain frequencies for disaster communications purposes.

Legal Basis: 47 U.S.C. 154, 161, 303, and 332.

Section Number and Title:

90.129(m) Supplemental information to be routinely submitted with applications.

Subpart H—Policies Governing the Assignment of Frequencies

Brief Description: The part 90 rules state the conditions under which radio communications systems may be licensed and used in the Public Safety, Industrial/Business Radio Pool, and Radiolocation Radio Services. Subpart H sets forth the rules and policies governing how the Commission assigns frequencies for use by licensees operating in the Private Land Mobile Services, as well as frequency coordination procedures, and procedures whereby licensees may cooperatively share radio facilities.

Need: The rules note that part 90 applications for new frequencies, for major license modification, and for certain temporary locations must be frequency-coordinated, and that all applicants for trunked systems between 150 MHz and 512 MHz must indicate on their applications that their systems will be trunked; a non-trunked system may be trunked only after filing a major modification application.

Legal Basis: 47 U.S.C. 154, 161, 303, and 332.

Section Number and Title:

90.173(h) Policies governing the assignment of frequencies.

90.175(a), (c)-(d) Frequency coordinator requirements.

90.176(a)(3), (b) Coordinator notification requirements on frequencies below 512 MHz or at 764-776/794-806 MHz.

90.187 Trunking in the bands between 150 and 512 MHz.

Subpart I—General Technical Standards

Brief Description: The part 90 rules state the conditions under which radio communications systems may be licensed and used in the Public Safety, Industrial/Business Radio Pool, and Radiolocation Radio Services. Subpart I sets forth the general technical requirements for use of frequencies and equipment in the Private Land Mobile Radio Services, including standards for acceptability of equipment, frequency tolerance, modulation, emissions, power, and bandwidths.

Need: The rules inform licensees that each transmitter operating under part 90 must be of a type that has been certificated for use, and that certification for 220-222 MHz band transmitters have unique requirements; they also advise state that applicants request only such power output as they need for operations; and list the attenuation standards for Location Monitoring Service (LMS) sub-band edges for non-multilateration systems.

Legal Basis: 47 U.S.C. 154, 161, 303, and 332.

Section Number and Title:

90.203(k) Certification required.

90.205(r) Power and antenna height limits.

90.210(k)(6) Emission masks.

Subpart J—Non-Voice and Other Specialized Operations

Brief Description: The part 90 rules state the conditions under which radio communications systems may be licensed and used in the Public Safety, Industrial/Business Radio Pool, and Radiolocation Radio Services. Subpart J sets forth requirements and standards for licensing and operation of non-voice and other specialized radio uses.

Need: The rules inform licensees of the conditions that allow authorization, on a secondary basis, for voice, tone or impulse signaling on a licensee's mobile service frequencies above 25 MHz within the area normally covered by the licensee's mobile system; the rules governing telemetry operations; the rules governing radio call box operations; mobile relay stations; and control stations.

Legal Basis: 47 U.S.C. 154, 161, 303, and 332.

Section Number and Title:

90.235(d) Secondary fixed signaling operations.

90.238(d), (h) Telemetry operations.

90.241(a), (c), (d), (e) Radio call box operations.

90.243(b)(1) Mobile relay stations.

90.249(a)(3) Radio call box operations.

Subpart K—Standards for Special Frequencies or Frequency Bands

Brief Description: The part 90 rules state the conditions under which radio communications systems may be licensed and used in the Public Safety, Industrial/Business Radio Pool, and Radiolocation Radio Services. Subpart K set forth special requirements applicable to the use of certain frequencies or frequency bands.

Need: The rule governs the availability and use of frequencies in the 421-430 MHz band.

Legal Basis: 47 U.S.C. 154, 161, 303, and 332.

Section Number and Title:

90.273(a) Availability and use of frequencies in the 421-430 MHz band.

Subpart L—Authorization in the Band 470-512 MHz (UHF-TV Sharing)

Brief Description: The part 90 rules state the conditions under which radio communications systems may be licensed and used in the Public Safety, Industrial/Business Radio Pool, and Radiolocation Radio Services. Subpart L governs the authorization and use of frequencies by land mobile stations in the 470-512 MHz band on a geographically shared basis with television broadcast stations.

Need: The rule notes that when frequencies are assigned under this part, channel loading should comply with 47 CFR 90.313.

Legal Basis: 47 U.S.C. 154, 161, 303, and 332.

Section Number and Title:

90.311(a)(3) Frequencies.

Subpart M—Intelligent Transportation Systems Radio Service

Brief Description: The part 90 rules state the conditions under which radio communications systems may be licensed and used in the Public Safety, Industrial/Business Radio Pool, and Radiolocation Radio Services. Subpart M contains the rules governing the Intelligent Transportation Systems Radio Service, including the Location Monitoring and the Dedicated Short Range Communications Services.

Need: The rules will assist in integrating radio-based technologies into the nation's intelligent transportation systems.

Legal Basis: 47 U.S.C. 154, 161, 303, and 332.

Section Number and Title:

90.353(i) LMS operations in the 902-928 MHz band.

Subpart N—Operating Requirements

Brief Description: The part 90 rules state the conditions under which radio communications systems may be licensed and used in the Public Safety, Industrial/Business Radio Pool, and Radiolocation Radio Services. Subpart N prescribes general operating requirements for stations licensed under this part.

Need: The rules note what uses are prohibited; rules governing interstation communications; operation of mobile station units not under the control of the licensee; and station identification procedures.

Legal Basis: 47 U.S.C. 154, 161, 303, and 332.

Section Number and Title:

90.415(b) Prohibited uses.

90.417(b) Interstation communication.

90.419(a) Points of communication.

90.421(a) Operation of mobile station units not under the control of the licensee.

90.425(a) Station identification.

Subpart P—Paging Operations

Brief Description: The part 90 rules state the conditions under which radio communications systems may be licensed and used in the Public Safety, Industrial/Business Radio Pool, and Radiolocation Radio Services. Subpart P sets forth the technical and operational requirements for certain paging operations with the Private Land Mobile Radio service, including one-way paging operations in the private services; one-way paging operations in the 806-824/851-869 MHz and 896-901/935-940 MHz bands; paging operations on exclusive channels in the 929-930 MHz band; and paging operations on shared channels in the 929-930 MHz band.

Need: The rule establishes administrative, technical, and operational conditions under which a paging licensee can operate on the 929-930 MHz band exclusive channels.

Legal Basis: 47 U.S.C. 154, 161, 303, and 332.

Section Number and Title:

90.493 Paging operations on exclusive channels in the 929-930 MHz band.

Subpart T—Regulations Governing Licensing and Use of Frequencies in the 220-222 MHz Band

Brief Description: The part 90 rules state the conditions under which radio communications systems may be licensed and used in the Public Safety, Industrial/Business Radio Pool, and Radiolocation Radio Services. Subpart T sets forth the administrative, operational, and technical rules governing licensing and use of frequencies in the 220-222 MHz Band, including eligibility, frequency and channel availability, permissible operations, frequency selection and assignment, and construction requirements.

Need: The rules assist applicants and licensees in understanding the requirements and various obligations in order to operate in the 220-222 MHz band, including what types of operations are allowed; the conditions under which a licensee can reasonably expect its license to be renewed; where and under what conditions they may operate; and various build-out requirements.

Legal Basis: 47 U.S.C. 154, 161, 303, and 332.

Section Number and Title:

90.709(e) Special limitations on amendment of applications and on assignment or transfer of authorizations licensed under this subpart.

90.733(d), (e)-(i) Permissible operations.

90.743 Renewal expectancy.

90.761 EA and Regional licenses.

90.763 EA, Regional and nationwide system operations.

90.765 Licenses term for Phase II licenses.

90.767 Construction and implementation of EA and Regional licenses.

90.769 Construction and implementation of Phase II nationwide licenses.

90.771 Field strength limits.

Subpart W—Competitive Bidding Procedures for the 220 MHz Service

Brief Description: The part 90 rules state the conditions under which radio communications systems may be licensed and used in the Public Safety, Industrial/Business Radio Pool, and Radiolocation Radio Services. Subpart W sets forth the rules governing the use of competitive bidding to resolve mutually exclusive 220 MHz applications for initial licenses.

Need: These rules are needed to implement the Commission's competitive bidding authority under 47 U.S.C. 309(j). The provisions in 47 CFR 90.1017, 90.1021 and 90.1023 are necessary to administer the Commission's designated entity program under which small businesses meeting certain eligibility criteria may receive bidding credits on their winning bids.

Legal Basis: 47 U.S.C. 154, 161, 303, 309, and 332.

Section Number and Title:

90.1001 220 MHz service subject to competitive bidding.

90.1017 Bidding credits for small businesses and very small businesses.

90.1019 Eligibility for partitioned licenses.

90.1021 Definitions concerning competitive bidding process.

90.1023 Records maintenance and definitions.

90.1025 Limitations on settlements.

PART 95—PERSONAL RADIO SERVICES

Subpart B—Family Radio Service (FRS)

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart B applies to the Family Radio Service, a very short distance, unlicensed, two-way voice radio service in the Ultra High Frequency (UHF) portion of the radio spectrum.

Need: The rule alerts any party operating or intending to operate an FRS station in certain areas of Puerto Rico to be aware of potential interference that station operations may cause the Arecibo Observatory.

Legal Basis: 47 U.S.C. 154 and 303.

Section Number and Title:

95.192(d) (FRS Rule 2)

Authorized locations.

Subpart C—Radio Control (R/C) Radio Service

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart C applies to the Radio Control (R/C) radio service, a private, one-way, short distance non-voice communications service for the operation of devices at remote locations.

Need: The subpart provides a radio service to meet the needs of licensees requiring private, one-way, short-distance non-voice communications to operate devices at remote locations. The rule alerts any party operating or intending to operate an R/C station in certain areas of Puerto Rico to be aware of potential interference that station operations may cause the Arecibo Observatory.

Legal Basis: 47 U.S.C. 154 and 303.

Section Number and Title:

95.206(c) (R/C Rule 6) Are there any special restrictions on the location of my R/C station?

Subpart D—Citizens Band (CB) Radio Service

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart D applies to the Citizens Band (CB) Radio Services, private two-way, short-distance voice communications services for personal or business activities of the general public. The CB Radio Services include the Family Radio Service; the Low Power Radio Service; the Medical Implant Communications Service; the Wireless Medical Telemetry Service; the Multi-Use Radio Service; and the Dedicated Short-Range Communications On-Board Units.

Need: The rule alerts any party operating or intending to operate a CB station in certain areas of Puerto Rico to be aware of potential interference that station operations may cause the Arecibo Observatory.

Legal Basis: 47 U.S.C. 154 and 303.

Section Number and Title:

95.405(d) (CB Rule 5) Where may I operate my CB station?

Subpart G—Low Power Radio Service (LPRS)

Brief Description: The part 95 rules govern the Personal Radio Services, including the General Mobile Radio Service, Family Radio Service, Radio Control Radio Service, Citizens Band Radio Service, 218-219 MHz Service, Low Power Radio Service, Wireless Medical Telemetry Service, Medical Implant Communications Service, and Multi-Use Radio Service. Subpart G applies to the Low Power Radio Service, a low power radio service sharing use of the 216-217 MHz band. Subpart G applies to the Low Power Radio Service (LPRS), a private, short-distance communication service providing auditory assistance to persons with disabilities, persons who require language translation, and persons in educational settings, health care assistance to the ill, law enforcement tracking in cooperation with law enforcement, and point-to-point control communications for automated Marine Telecommunications System coast stations.

Need: The rule alerts any party operating or intending to operate a LPRS station in certain areas of Puerto Rico to be aware of potential interference that station operations may cause the Arecibo Observatory.

Legal Basis: 47 U.S.C. 154 and 303.

Section Number and Title:

95.1003(c) Authorized locations.

PART 97—AMATEUR RADIO SERVICE

Subpart A—General Provisions

Brief Description: The part 97 rules set forth the conditions under which portions of the radio spectrum are made available and licensed for amateur radio service. Subpart A contains administrative, technical, and operational requirements for use of the spectrum and equipment in the amateur radio service.

Need: The rules provide guidance on the acquisition of, and administrative parameters for, a special event call sign, and advises amateur licensees on steps they must take to minimize human exposure to elevated radio frequency electromagnetic field levels.

Legal Basis: 47 U.S.C. 154 and 303.

Section Number and Title:

97.3(a)(11)(iii) Definitions.

97.13(c) and (c)(1) Restrictions on station location.

Subpart B—Station Operation Standards

Brief Description: The part 97 rules set forth the conditions under which portions of the radio spectrum are made available and licensed for amateur radio service. Subpart B sets forth the general operational standards for licensees operating in the amateur radio service, including station licensees responsibilities; control operator duties; reciprocal operating authority; station control; authorized and prohibited transmissions; station identification; and restricted operations.

Need: The rule is needed to alert licensees that, in conjunction with a special event, they may substitute a special event call sign for their regular assigned call sign.

Legal Basis: 47 U.S.C. 154 and 303.

Section Number and Title:

97.119(d) Station identification.

Subpart C—Special Operations

Brief Description: The part 97 rules set forth the conditions under which portions of the radio spectrum are made available and licensed for amateur radio service. Subpart C applies to special operations in the amateur service, including auxiliary, beacon, repeater space, earth, and space telecommand stations.

Need: The rule alerts certain licensees operating in Puerto Rico that, prior to establishing a repeater station in proximity to the Arecibo Observatory, they must notify the Observatory of such action.

Legal Basis: 47 U.S.C. 154 and 303.

Section Number and Title:

97.205(h) Repeater station.

Subpart F—Qualifying Examination Systems

Brief Description: The part 97 rules set forth the conditions under which portions of the radio spectrum are made available and licensed for amateur radio service. Subpart F details the qualifying standards an applicant must meet in order to become licensed in the amateur radio service.

Need: The rule details certain criteria for selecting a volunteer examiner (VE).

Legal Basis: 47 U.S.C. 154 and 303.

Section Number and Title:

97.513 VE session manager requirements.

PART 101—FIXED MICROWAVE SERVICES

Subpart B—Applications and Licenses

Brief Description: The part 101 rules prescribe the manner in which portions of the radio spectrum may be made available for private operational, common carrier, 24 GHz Service and Local Multipoint Distribution Service fixed, microwave operations that require transmitting facilities on land or in specified offshore coastal areas within the continental shelf. Subpart B sets forth the rules governing the licensing and operations of those fixed microwave operations subject to part 101.

Need: The identified rules are necessary to define the general filing requirements for licensees in the Local Multipoint Distribution Service and for public safety licensees, and to provide specific procedures for the licensing, operation, and modification of facilities in the Local Multipoint Distribution Service.

Legal Basis: 47 U.S.C. 151, 154, 157, 301, 303, 307, and 316.

Section Number and Title:

101.21(g) Technical content of applications.

101.31(a)(3) Temporary and conditional authorizations.

101.61 Certain modifications not requiring prior authorization in the Local Multipoint Distribution Service and 24 GHz Service.

101.77(a)(1) Public safety licensees in the 1850-1990 MHz, 2110-2150 MHz, and 2160-2200 MHz bands.

Subpart C—Technical Standards

Brief Description: The part 101 rules prescribe the manner in which portions of the radio spectrum may be made available for private operational, common carrier, 24 GHz Service and Local Multipoint Distribution Service fixed, microwave operations that require transmitting facilities on land or in specified offshore coastal areas within the continental shelf. Subpart C sets forth the technical requirements for such services.

Need: The identified rules are necessary to assign frequencies for LMDS systems on a BTA service area basis, clarify that the assigned spectrum may be subdivided as desired by the licensee, and provide specific frequency coordination procedures applicable to the operation of such systems on the assigned frequencies.

Legal Basis: 47 U.S.C. 154 and 303.

Section Number and Title:

101.103(g)-(h) Frequency coordination procedures.

101.147(t) Frequency assignments.

Subpart L—Local Multipoint Distribution Service

Brief Description: The part 101 rules prescribe the manner in which portions of the radio spectrum may be made available for private operational, common carrier, 24 GHz Service and Local Multipoint Distribution Service fixed, microwave operations that require transmitting facilities on land or in specified offshore coastal areas within the continental shelf. Subpart L sets forth specific rules pertaining to the Local Multipoint Distribution Service.

Need: The identified rules are necessary to define requirements and procedures specific to the licensing and operation of LMDS systems.

Legal Basis: 47 U.S.C. 154 and 303.

Section Number and Title:

101.1001 Eligibility.

101.1005 Frequencies available.

101.1007 Geographic service areas and number of licenses.

101.1009 System operations.

101.1011 Construction requirements and criteria for renewal expectancy.

101.1013 Permissible communications services.

101.1017 Requesting regulatory status.

Subpart M—Competitive Bidding Procedures for LMDS

Brief Description: The part 101 rules prescribe the manner in which portions of the radio spectrum may be made available for private operational, common carrier, 24 GHz Service and Local Multipoint Distribution Service (LMDS) fixed, microwave operations that require transmitting facilities on land or in specified offshore coastal areas within the continental shelf. Subpart M sets forth the rules governing the use of competitive bidding to resolve mutually exclusive LMDS applications for initial licenses.

Need: These rules are needed to implement the Commission's competitive bidding authority under 47 U.S.C. 309(j). The provisions in 47 CFR 101.1107, 101.1109 and 101.1112 are necessary to administer the Commission's designated entity program under which small businesses meeting certain eligibility criteria may receive bidding credits on their winning bids.

Legal Basis: 47 U.S.C. 154, 303, and 309.

Section Number and Title:

101.1101 LMDS service subject to competitive bidding.

101.1107 Bidding credits for very small businesses, small businesses, and entrepreneurs.

101.1109 Records maintenance.

101.1111 Partitioning and disaggregation.

101.1112 Definitions.

[FR Doc. E8-31007 Filed 12-29-08; 8:45 am]

BILLING CODE 6712-01-P